DEPARTMENT OF COMMERCE

National Oceanic and Atmospheric Administration

[I.D. 121704D]

Marine Mammals; File No. 984-1587

AGENCY: National Marine Fisheries Service (NMFS), National Oceanic and Atmospheric Administration (NOAA), Commerce.

ACTION: Receipt of application for amendment.

SUMMARY: Notice is hereby given that Dr. Terrie Williams, Long Marine Lab, Institute of Marine Sciences, University of California at Santa Cruz, 100 Shaffer Road, Santa Cruz, CA 95060, has requested an amendment to scientific research Permit No. 984-1587-03.

DATES: Written or telefaxed comments must be received on or before January 27, 2005.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 984-1587-04.

FOR FURTHER INFORMATION CONTACT: Jennifer Skidmore or Amy Sloan, (301)713-2289.

SUPPLEMENTARY INFORMATION: The subject amendment to Permit No. 984-1587-03, issued on July 1, 2003 (68 FR 40912), is requested under the authority of the Marine Mammal Protection Act of 1972, as amended (16 U.S.C. 1361 et seq.), and the Regulations Governing the Taking and Importing of Marine Mammals (50 CFR part 216).

Permit No. 984-1587-03 authorizes the permit holder to examine the physiological responses of two adult male dolphins (Tursiops truncatus) and five adult female California sea lions (Zalophus californianus) during swimming and diving. Testing involves measuring locomotor, thermal, and maintenance costs using voluntary behaviors through training at Long Marine Laboratory. Types of take for dolphins and sea lions include open flow respirometry, swimming, and voluntary breath holding. For the female sea lions, mating with an adult male on temporary loan, ultrasound, blood, milk, saliva, fecal, and urine sampling is also authorized to monitor pregnancy and test the hypothesis that physiological adaptations for the marine environment result in elevated energetic costs in otariids compared to terrestrial mammals.

This amendment request is to supplement the current research program on otariid reproductive energetics with two juvenile California sea lions born at the pinniped facility at Long Marine Laboratory, University of California at Santa Cruz. These additions will allow the Permit Holder to evaluate the effects of nutrition on growth in immature sea lions. In addition, these animals have been determined unfit for release. All animals will follow the research protocols of the original permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: December 21, 2004.
Jennifer Skidmore,
Acting Chief, Permits, Conservation and Education Division, Office of Protected Resources, National Marine Fisheries Service.

[FR Doc. 04-28368 Filed 12-27-04; 8:45 am]

BILLING CODE 3510-22-S